DEPARTMENT OF TRANSPORTATION

Federal Aviation Administration

14 CFR Part 39

[Docket No. FAA-2004-19863; Directorate Identifier 2003-NM-29-AD]

RIN 2120-AA64

Airworthiness Directives; Airbus Model A319, A320, and A321 Series Airplanes

AGENCY: Federal Aviation Administration (FAA), DOT.

ACTION: Notice of proposed rulemaking (NPRM).

SUMMARY: The FAA proposes to supersede an existing airworthiness directive (AD) that applies to certain Airbus Model A319, A320, and A321 series airplanes. The existing AD currently requires modification of the telescopic girt bar of the escape slide/raft assembly, and follow-on actions. This proposed AD would mandate a new modification of the telescopic girt bar, which would terminate the repetitive functional tests required by the existing AD. This proposed AD would also expand the applicability of the existing AD. This proposed AD is prompted by development of a new, improved modification. We are proposing this AD to prevent failure of the escape slide/raft to deploy correctly, which could result in the slide being unusable during an emergency evacuation and consequent injury to passengers or airplane crewmembers.

DATES: We must receive comments on this proposed AD by January 31, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC.

FOR FURTHER INFORMATION CONTACT: Technical information: Tim Dulin, Aerospace Engineer, International Branch, ANM-116, FAA, Transport Airplane Directorate, 1601 Lind Avenue, SW., Renton, Washington 98055-4056; telephone (425) 227-2141; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19863; Directorate Identifier 2003-NM-29-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On August 9, 2001, the FAA issued AD 2001-16-14, amendment 39-12383 (66 FR 42939, August 16, 2001). That AD applies to certain Airbus Model A319, A320, and A321 series airplanes, and requires modifying the telescopic girt bar of the escape slide/raft assembly, and follow-on actions. That AD was prompted by several reports of the telescopic girt bar of the slide/raft assembly detaching from the door sill fittings and preventing proper deployment of the emergency escape slide. The requirements of that AD are intended to prevent failure of the escape slide/raft to deploy correctly, which could result in the slide being unusable during an emergency evacuation and consequent injury to passengers or airplane crewmembers.

Actions Since Existing AD Was Issued

The preamble to AD 2001-16-14 specified that we considered the requirements “interim action” and that the manufacturer was developing a new modification to address the unsafe condition. That AD explained that we may consider further rulemaking if that modification is developed, approved, and available. The manufacturer now has developed such a modification, and we have determined that further rulemaking is indeed necessary; this proposed AD follows from that determination.

Relevant Service Information

Airbus has issued Service Bulletin A320-52-1112, Revision 02, dated September 6, 2002, which describes procedures for replacing the sliding part of the telescopic girt bar of the escape slide/raft assembly with a new part having a larger trigger; and doing an operational test after the replacement. For all airplanes, the replacement involves removing the four telescopic girt bars, installing a new slide on each of the four telescopic girt bars, and installing the four modified telescopic girt bars on the airplanes. For airplanes that have been modified per airplane configuration 02 (as required by AD 2001-16-14), the service bulletin also contains procedures for removing the “U-shaped” reinforcement bar installed on the four girt bar assemblies during the previous modification.

The Direction Générale de l'Aviation Civile (DGAC), which is the airworthiness authority for France, classified this service information as mandatory and issued French airworthiness directive 2002-637(B) R1, dated April 16, 2003, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGACs findings, evaluated all pertinent information, and determined that AD action is necessary for airplanes of this type design that are certificated for operation in the United States.

For this reason, this proposed AD would supersede AD 2001-16-14. This proposed AD would retain the requirements of the existing AD and would mandate a new modification of the telescopic girt bar, which would constitute terminating action for the repetitive functional tests of the existing AD. This proposed AD would also expand the applicability of the existing AD.

Clarification of Concurrent Requirements

Airbus Service Bulletin A320-52-1112, Revision 02, specifies Airbus Service Bulletins A320-25-1055 (currently at Revision 15, dated February 11, 2004), and A320-25-1218 (currently at Revision 01, dated November 2, 2001), as concurrent requirements. These service bulletins describe procedures for installing Air Cruisers slide raft assemblies that are the subject of this proposed AD on the passenger/crew doors. If the slide rafts specified in these service bulletins have not been installed previously, then the airplane would not be subject to the proposed AD (i.e., the airplane would not be equipped with slide rafts needing to be modified). Thus, we find it is not necessary for this proposed AD to require accomplishing Service Bulletin A320-25-1055 or A320-25-1218.

Change to Existing AD

This proposed AD would retain all requirements of AD 2001-16-14. Since AD 2001-16-14 was issued, the AD format has been revised, and certain paragraphs have been rearranged. As a result, the corresponding paragraph identifier has changed in this proposed AD, as listed in the following table:

Revised Paragraph Identifier
Requirement in AD 2001-16-14 | Corresponding requirement in this proposed AD
Paragraph (a) | Paragraph (f).

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Costs of Compliance

This proposed AD would affect about 517 airplanes of U.S. registry.

The modification that is required by AD 2001-16-14 and retained in this proposed AD takes about 7 work hours per airplane, at an average labor rate of $65 per work hour. The cost of required parts is negligible. Based on these figures, the estimated cost of the currently required modification is $235,235, or $455 per airplane.

The functional test that is required by AD 2001-16-14 and retained in this proposed AD takes about 1 work hour per airplane, at an average labor rate of $65 per work hour. Based on these figures, the cost impact of the currently required functional test is $33,605, or $65 per airplane, per test cycle.

For airplanes that have not been modified in accordance with AD 2001-16-14: The new proposed modification would take about 16 work hours per airplane, at an average labor rate of $65 per work hour. Required parts would cost about $5,040 per airplane. Based on these figures, the estimated cost of the new modification specified in this proposed AD is $6,080 per airplane.

For airplanes that have been modified in accordance with AD 2001-16-14: The new proposed modification would take about 20 work hours per airplane, at an average labor rate of $65 per work hour. Required parts would cost about $5,040 per airplane. Based on these figures, the estimated cost of the new modification specified in this proposed AD is $6,340 per airplane.

Authority for This Rulemaking

The FAA's authority to issue rules regarding aviation safety is found in title 49 of the United States Code. Subtitle I, section 106, describes the authority of the FAA Administrator. Subtitle VII, Aviation Programs describes in more detail the scope of the agency's authority.

This rulemaking is promulgated under the authority described in subtitle VII, part A, Subpart III, Section 44701, “General requirements.” Under that section, the FAA is charged with promoting safety flight of civil aircraft in air commerce by prescribing regulations for practices, methods, and procedures the Administrator finds necessary for safety in air commerce. This regulation is within the scope of that authority because it addresses an unsafe condition that is likely to exist or develop on products identified in this proposed AD.

Regulatory Findings

We have determined that this proposed AD will not have federalism implications under Executive Order 13132. This proposed AD will not have a substantial direct effect on the States, on the relationship between the national government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12383 (66 FR 42939, August 16, 2001) and adding the following new airworthiness directive (AD):

Airbus: Docket No. FAA-2004-19863; Directorate Identifier 2003-NM-29-AD.

Comments Due Date

(a) The Federal Aviation Administration must receive comments on this airworthiness directive (AD) action by January 31, 2005.

Affected ADs

(b) This AD supersedes AD 2001-16-14, Amendment 39-12383 (66 FR 42939, August 16, 2001).

Applicability

(c) This AD applies to Airbus Model A319, A320, and A321 series airplanes; certificated in any category; equipped with telescopic girt bars of the escape slide/raft assembly installed per Airbus Modification 20234, or Airbus Service Bulletin A320-25-1055 or A320-25-1218 in service; except those airplanes with Airbus Modification 31708.

Unsafe Condition

(d) This AD was prompted by development of a new, improved modification of the telescopic girt bar of the escape slide/raft assembly. We are issuing this AD to prevent failure of the escape slide/raft to deploy correctly, which could result in the slide being unusable during an emergency evacuation and consequent injury to passengers or airplane crewmembers.

Compliance

(e) You are responsible for having the actions required by this AD performed within the compliance times specified, unless the actions have already been done.

Restatement of Requirements of AD 2001-16-14

Modification/Follow-On Actions

(f) For airplanes listed in Airbus Industrie All Operators Telex A320-52A1111, Revision 01, dated July 23, 2001: Within 1,500 flight hours after August 31, 2001 (the effective date of AD 2001-16-14); except as provided by paragraph (h) of this AD, modify the telescopic girt bar of the escape slide/raft assembly installed on all passenger and crew doors and do a functional test to ensure the girt bar does not retract, per Airbus Industrie AOT A320-52A1111, Revision 01, dated July 23, 2001.

(1) If the girt bar retracts, before further flight, replace any discrepant parts and do another functional test to ensure the girt bar does not retract, per the AOT. Repeat the functional test after that at intervals not to exceed 18 months until paragraph (g) of this AD is accomplished.

(2) If the girt bar does not retract, repeat the functional test thereafter at intervals not to exceed 18 months.

Note 1: Modification and follow-on actions accomplished prior to the effective date of this AD per Airbus Industrie AOT A320-52A1111, dated July 5, 2001, are considered acceptable for compliance with the applicable actions specified in this amendment.

New Requirements of This AD

Modification

(g) Within 48 months after the effective date of this AD: Modify the telescopic girt bar of the escape slide/raft assembly by doing all the applicable actions specified in the Accomplishment Instructions of Airbus Service Bulletin A320-52-1112, Revision 02, dated September 6, 2002. Accomplishing the actions required by this paragraph terminates the repetitive functional tests required by paragraph (f) of this AD.

(h) Airplanes on which the modification required by paragraph (g) of this AD is accomplished within the compliance time specified in paragraph (f) of this AD are not required to accomplish the modification required by paragraph (f).

Modifications Accomplished According to Previous Issues of Service Bulletin

(i) Modifications accomplished before the effective date of this AD in accordance with either Airbus Service Bulletin A320-52-1112, dated January 16, 2002; or Revision 01, dated April 3, 2002; are considered acceptable for compliance with paragraph (g) of this AD.

Parts Installation

(j) As of the effective date of this AD, no person may install on any airplane a telescopic girt bar of the escape slide/raft assembly unless it has been modified as required by paragraph (g) of this AD.

Alternative Methods of Compliance (AMOCs)

(k)(1) The Manager, International Branch, ANM-116, has the authority to approve alternative methods of compliance (AMOCs) for this AD, if requested in accordance with the procedures found in 14 CFR 39.19.

(2) AMOCs approved previously in accordance with AD 2001-16-14, amendment 39-12383, are approved as AMOCs with paragraph (f) of this AD.

Related Information

(l) French airworthiness directive 2002-637(B) R1, dated April 16, 2003, also addresses the subject of this AD.

Issued in Renton, Washington, on December 6, 2004.
Ali Bahrami,
Manager, Transport Airplane Directorate, Aircraft Certification Service.

[FR Doc. 04-27505 Filed 12-15-04; 8:45 am]

BILLING CODE 4910-13-P